DEPARTMENT OF THE INTERIOR

National Park Service

[NPS-WASO-NRNHL-24417; PPWOCRADI0, PCU00RP14.R50000]

National Register of Historic Places; Notification of Pending Nominations and Related Actions

AGENCY: National Park Service, Interior.

ACTION: Notice.

SUMMARY: The National Park Service is soliciting comments on the significance of properties nominated before September 30, 2017, for listing or related actions in the National Register of Historic Places.

DATES: Comments should be submitted by November 13, 2017.

ADDRESSES: Comments may be sent via U.S. Postal Service and all other carriers to the National Register of Historic Places, National Park Service, 1849 C St. NW., MS 7228, Washington, DC 20240.

SUPPLEMENTARY INFORMATION: The properties listed in this notice are being considered for listing or related actions in the National Register of Historic Places. Nominations for their consideration were received by the National Park Service before September 30, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Maricopa County

Beadle House No. 11, 4323 E. McDonald Dr., Phoenix, SG100001786

COLORADO

Mesa County

TBM Avenger Aircraft N53503, 780 Heritage Way, Grand Junction Regional Airport, Grand Junction vicinity, SG100001791

Montezuma County

Haynie Site, (Great Pueblo Period of the McElmo Drainage Unit MPS), 29619 Cty. Rd. L, Mancos vicinity, MP100001792

IOWA

Polk County

I.O.O.F. (International Order of Odd Fellows) Valley Junction Lodge Hall No. 604, 216-218 5th St., West Des Moines, SG100001793

MARYLAND

Montgomery County

Mesrobian, Mihran, House, 7410 Connecticut Ave., Chevy Chase, SG100001794

MICHIGAN

Isabella County

Mount Pleasant Indian Industrial Boarding School, Bounded by Crawford, Pickard, Bamber, River Rds., Mount Pleasant, SG100001795

NEBRASKA

Antelope County

Downtown Neligh Historic District, Main St. from 5th to 2nd Sts., Neligh, SG100001796

Buffalo County

Kearney Downtown Historic District, Multiple, Kearney, SG100001797

Douglas County

Chiodo Apartments, (Apartments, Flats and Tenements in Omaha, Nebraska from 1880-1962 MPS), 2556 Marcy St., Omaha, MP100001798

Tong, On Leong, House, 1518 Cass St., Omaha, SG100001799

Hall County

Grand Island Historic District, Multiple, Grand Island, SG100001800

NEW YORK

Kings County

Lefferts Manor Historic District (Boundary Increase), Fenimore, Maple & Midwood Sts., Lincoln & Rutland Rds., Bedford Ave., Brooklyn, BC100001801

New York County

Caffe Cino, 31 Cornelia St., New York, SG100001802

Holy Cross African Orthodox Pro-Cathedral, 122 W. 129th St., New York, SG100001803

Oneida County

Forest Hill Cemetery, 2201 Oneida St., Utica, SG100001804

Ontario County

Warren—Benham House, 5680 Seneca Point Rd., Bristol Springs, SG100001805

Oswego County

Oswego and Syracuse Railroad Freight House, 20-24 W. Utica St., Oswego, SG100001806

Queens County

Spear and Company Factory, 94-15 100th St., Ozone Park, SG100001807

Suffolk County

Bethel Christian Avenue Historic District, Roughly Christian Ave., Hill & Locust Sts., Setauket, SG100001808

Farnum, William A., Boathouse, 52 Actor's Colony Rd., Sag Harbor, SG100001809

Old Bethel Cemetery, Christian & Woodfield Aves., Stony Brook, SG100001810

Squires, Ellis Jr., House, 186 & 190 Squiretown Rd., Hampton Bays, SG100001811

Ulster County

Saugerties and New York Steamboat Company Warehouse, 2 Ferry St., Saugerties, SG100001812

WISCONSIN

Kenosha County

Kenosha Elks Club, 5706 8th Ave., Kenosha, SG100001815

An owner objection received for the following resource:

NORTH DAKOTA

Wells County

Manfred Historic District, All of the original town of Manfred & the LeGrand's Addition, Manfred, SG100001813

A request for removal has been made for the following resources:

COLORADO

Eagle County

Dotsero Bridge, (Highway Bridges in Colorado MPS), I-70 Service Rd. at milepost 133.51, Dotsero, OT02001155

Eagle River Bridge, (Highway Bridges in Colorado MPS), US 6 at milepost 150.24, Eagle vicinity, OT02001156

Additional documentation has been received for the following resources:

ARIZONA

Pima County

Barrio El Hoyo Historic District, 460 S. Otero Ave., Tucson, AD08000763

COLORADO

Denver County

Montview Boulevard Presbyterian Church, 1980 Dahlia St., Denver, AD04000262

Authority: 60.13 of 36 CFR part 60.

Dated: October 6, 2017.
J. Paul Loether,
Chief, National Register of Historic Places/National Historic Landmarks Program and Keeper, National Register of Historic Places.

[FR Doc. 2017-23331 Filed 10-25-17; 8:45 am]

BILLING CODE 4312-52-P